DEPARTMENT OF STATE

[Public Notice: 11210]

Notice of Department of State Sanctions Actions Pursuant to Executive Order 13846 of August 6, 2018, Reimposing Certain Sanctions With Respect to Iran

SUMMARY: The Secretary of State has imposed sanctions on 5 entities and 3 individuals pursuant to E.O. 13846, Reimposing Certain Sanctions with Respect to Iran.

DATES: The Secretary of State's determination and selection of certain sanctions to be imposed upon the 5 entities and 3 individuals identified in the SUPPLEMENTARY INFORMATION section are effective on September 3, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 3(a) of E.O. 13846, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in section 4 or 5 of E.O. 13846 upon determining that the person met any criteria set forth in sections 3(a)(i)-3(a)(vi) of E.O. 13846.

The Secretary of State has determined, pursuant to Section 3(a) (ii) of E.O. 13846, that Abadan Refining Company, Zhihang Ship Management (Shanghai) Co Ltd, New Far International Logistics LLC, Chemtrans Petrochemicals Trading LLC, and Sino Energy Shipping (Hong Kong) Ltd, have knowingly, on or after November 5, 2018, engaged in a significant transaction for the purchase, acquisition, sale, transport, or marketing of petroleum products from Iran.

Pursuant to Section 5(a) of E.O. 13846, the Secretary of State has selected the following sanctions to be imposed upon Abadan Refining Company, Zhihang Ship Management (Shanghai) Co Ltd, New Far International Logistics LLC, Chemtrans Petrochemicals Trading LLC, and Sino Energy Shipping (Hong Kong) Ltd:

• Prohibit any transactions in foreign exchange that are subject to the jurisdiction of the United States and in which the entities have any interest;

• Prohibit any transfers of credit or payments between financial institutions or by, through, or to any financial institution, to the extent that such transfers or payments are subject to the jurisdiction of the United States and involve any interest of the entities;

• Block all property and interests in property that are in the United States, that hereafter come within the United States, or that are or hereafter come within the possession or control of any United States person of the entities, and provide that such property and interests in property may not be transferred, paid, exported, withdrawn, or otherwise dealt in;

• Prohibit any United States person from investing in or purchasing significant amounts of equity or debt instruments of the entities;

• Restrict or prohibit imports of goods, technology, or services, directly or indirectly, into the United States from the entities; and

• Impose on the principal executive officer or officers, or persons performing similar functions and with similar authorities, of the entities the sanctions described in sections 5(a)(i)-5(a)(iv) and 5(a)(vi) of E.O. 13846, as selected by the Secretary of State.

Pursuant to Sections 5(a) of E.O. 13846, the Secretary of State has selected the following sanctions to be imposed upon Min Shi, director of New Far International Logistics LLC, Zouyou Lin, director of Sino Energy Shipping (Hong Kong) Ltd, and Alireza Amin, managing director of Abadan Refining Company, who have been determined to be (i) a corporate officer or principal of the aforementioned entities and (ii) a principal executive officer of the aforementioned entities, or perform similar functions with similar authorities as a principal executive officer:

• Prohibit any transactions in foreign exchange that are subject to the jurisdiction of the United States and in which Min Shi, Zouyou Lin, and Alireza Amin have any interest;

• Prohibit any transfers of credit or payments between financial institutions or by, through, or to any financial institution, to the extent that such transfers or payments are subject to the jurisdiction of the United States and involve any interest of Min Shi, Zouyou Lin, and Alireza Amin;

• Block all property and interests in property that are in the United States, that hereafter come within the United States, or that are or hereafter come within the possession or control of any United States person of Min Shi, Zouyou Lin, and Alireza Amin; and provide that such property and interests in property may not be transferred, paid, exported, withdrawn, or otherwise dealt in; and

• Restrict or prohibit imports of goods, technology, or services, directly or indirectly, into the United States from Min Shi, Zouyou Lin, and Alireza Amin.

Additionally, pursuant to Section 4(e) of E.O. 13846, the Secretary of State shall deny a visa to, and the Secretary of Homeland Security shall exclude from the United States, any alien that the Secretary of State determines is a corporate officer or principal of, or a shareholder with a controlling interest in, a sanctioned person subject to this action.

Peter D. Haas,
Principal Deputy Assistant Secretary, Bureau of Economic and Business Affairs, Department of State.

[FR Doc. 2020-27518 Filed 12-14-20; 8:45 am]

BILLING CODE 4710-07-P